DEFENSE BASE CLOSURE AND REALIGNMENT COMMISSION

Notice of the Defense Base Closure and Realignment Commission (Washington, DC)

AGENCY: Defense Base Closure and Realignment Commission.

ACTION: Notice: Defense Base Closure and Realignment Commission—Open Meeting (Washington, DC).

SUMMARY: Notice is hereby given that a delegation of the Commissioners of the Defense Base Closure and Realignment Commission will hold an open meeting on July 7, 2005 from 8:30 a.m. to 3:15 p.m. in the Ronald Reagan Building, 1300 Pennsylvania Avenue, NW., Washington, DC 20004. The delay of this notice resulted from the short time-frame established by statute for the operations of the Defense Base Closure and Realignment Commission and the need to coordinate the schedules of the various Federal, state and local officials whose participation was judged essential to a meaningful public discussion. The Commission requests that the public consult the Defense Base Closure and Realignment Commission Web site, http://www.brac.gov, for updates. The delegation will meet to receive comment from Federal, state and local government representatives and the general public on base realignment and closure actions in the District of Columbia, Pennsylvania, and Virginia that have been recommended by the Department of Defense (DoD). The purpose of this regional hearing is to allow communities experiencing a base closure or major realignment action (defined as loss of 300 civilian positions or 400 military and civilian positions) an opportunity to voice their concerns, counter-arguments, and opinions in live public forum. This meeting will be open to the public, subject to the availability of space. The delegation will not render decisions regarding the DoD recommendations at this meeting, but will gather information for later deliberations by the Commission as a whole.

DATES: July 7, 2005 from 8:30 a.m. to 3:15 p.m.

ADDRESSES: Ronald Reagan Building, 1300 Pennsylvania Avenue, NW., Washington, DC 20004.

FOR FURTHER INFORMATION CONTACT: Please see the Defense Base Closure and Realignment Commission Web site, http://www.brac.gov. The Commission invites the public to provide direct comment by sending an electronic message through the portal provided on the Commission's website or by mailing comments and supporting documents to the Defense Base Closure and Realignment Commission, 2521 South Clark Street, Suite 600, Arlington, Virginia 22202-3920. The Commission requests that public comments be directed toward matters bearing on the decision criteria described in the Defense Base Closure and Realignment Act, as amended, available on the Commission Web site. Sections 2912 through 2914 of that Act describe the criteria and many of the essential elements of the Base Closure and Realignment process. For questions regarding this announcement, contact Mr. Dan Cowhig, Deputy General Counsel and Designated Federal Official, at the Commission's mailing address or telephone at 703-699-2950 or 2708.

Dated: June 23, 2005.
Jeannette Owings-Ballard,
Administrative Support Officer.

[FR Doc. 05-12772 Filed 6-28-05; 8:45 am]

BILLING CODE 5001-06-P